SECURITIES AND EXCHANGE COMMISSION

Sunshine Act Meeting

Notice is hereby given, pursuant to the provisions of the Government in the Sunshine Act, Pub. L. 94-409, that the Securities and Exchange Commission will hold the following meetings during the week of July 24, 2000.

An open meeting will be held on Tuesday, July 25, 2000 at 10:00 a.m., in Room 1C30.

The subject matter of the open meeting scheduled for Tuesday, July 25, 2000 will be:

(1) The Commission will consider two actions regarding the options markets. First, the Commission will consider approving an intermarket linkage plan for options exchanges. Second, the Commission will consider a rule proposal regarding the quotation obligations of options exchanges and market makers, and disclosure by broker-dealers of executions of customer options orders at prices inferior to the quote. For further information contact: Heather Traeger, Attorney, at (202) 942-0763, Office of Market Supervision, Division of Market Regulation, Securities and Exchange Commission, 450 Fifth St, N.W., Washington, DC 20549-1001; and

(2) Consideration will be given to a rule proposal arising from its request for comments on issues of fragmentation and internalization in the securities markets. The rule proposal would require greater disclosure of order routing and order execution practices by brokers and market centers. For further information, contact: Susie Cho, Attorney, at (202) 942-0748, Office of Market Supervision, Division of Market Regulation, Securities and Exchange Commission, 450 Fifth St, N.W., Washington, DC 20549-1001.

Hearings will be held on Tuesday, July 26, 2000 at 9:00 a.m., in Room 1C30.

The Commission will hold public hearings on its proposed rule amendments concerning auditor independence. The purpose of the hearings is to give the Commission the benefit of the views of interested members of the public regarding the issues raised and questions posed in the Proposing Release (33-7870). For further information, contact: John M. Morrissey, Deputy Chief Accountant or W. Scott Bayless, Associate Chief Accountant, Office of the Chief Accountant at (202) 942-4400.

A closed meeting will be held on Thursday, July 27, 2000 at 11:00 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(4), (8), (9)(A) and (10) and 17 CFR 200.402(a)(4), (8), (9)(A) and (10), permit consideration for the scheduled matters at the closed meeting.

The subject matters of the closed meeting scheduled Thursday, July 27, 2000 will be:

Institution and settlement of injunctive actions; and

Institution and settlement of administrative proceedings of an enforcement nature

At times, changes in Commission priorities require alterations in the scheduling of meeting items. For further information and to ascertain what, if any, matters have been added, deleted or postponed, please contact: The Office of the Secretary at (202) 942-7070.

Dated: July 18, 2000.
Jonathan G. Katz,
Secretary.

[FR Doc. 00-18586 Filed 7-18-00; 4:31 pm]

BILLING CODE 8010-01-M